DEPARTMENT OF AGRICULTURE

7 CFR Chaper XXX

Office of the Chief Financial Officer; Policy Statement for Direct Final Rulemaking

AGENCY: Office of the Chief Financial Officer, USDA.

ACTION: Policy statement.

SUMMARY: The Office of the Chief Financial Officer (OCFO) is implementing a new “direct final” rulemaking procedure to expedite any noncontroversial changes to its regulations.

DATES: Effective November 5, 2004.

FOR FURTHER INFORMATION CONTACT: Matthew Faulkner, Office of the Chief Financial Officer, Credit, Travel and Grants Policy Division, United States Department of Agriculture, (202) 720-1307.

SUPPLEMENTARY INFORMATION:

The Direct Final Rule Process

Rules that OCFO determines to be noncontroversial and unlikely to result in adverse comments will be published in the Federal Register as direct final rules. Each direct final rule will advise the public that no adverse comments are anticipated. Unless any adverse comments are received within 60 days, the direct final rule will take effect 90 days after it is published in the Federal Register.

If OCFO receives written adverse comments or notice of intent to submit such comments within 60 days of the publication of a direct final rule, OCFO will publish in the Federal Register a document stating that adverse comments were received and withdrawing the direct final rule prior to its effective date.

Any comment expressing support for the rule as published will not be considered adverse. Additionally, any comment suggesting that requirements in the rule should or should not be employed by OCFO in other programs or situations outside the scope of the direct final rule will not be considered adverse.

In accordance with rulemaking provisions of the Administrative Procedure Act (5 U.S.C. 553), the direct final rulemaking procedure notifies the public of OCFO intent to adopt a new rule and gives interested persons an opportunity to participate in the rulemaking process through the submission of comments for consideration. If neither written adverse comments nor written notice of intent to submit such comments are received, OCFO will publish a document in the Federal Register stating that no adverse comments were received and confirming the direct final rule's effective date.

Determining When To Use Direct Final Rulemaking

OCFO promulgates USDA-wide policies pertaining to Federal financial assistance. Many of these policies implement broader Federal policies established by the Office of Management and Budget (OMB), frequently through OMB circulars. OMB typically uses a notifier and comment process in adopting the OMB circulars. OCFO has limited discretion in implementing these policies through rulemakings governing USDA financial assistance. Typically, such OMB policies are implemented verbatim.

OCFO may use the direct final rulemaking process to revise USDA regulations to implement revisions to OMB Circulars. For instance, if OMB revises the dollar thresholds in an OMB Circular, OCFO would use a direct final rulemaking to incorporate the revisions into USDA-implementing regulations.

Not all OCFO rules are good candidates for the direct final rulemaking. OCFO intends to use the direct final rulemaking procedure only for rules considered to be noncontroversial and unlikely to generate adverse comments. The decision whether to use the direct final rulemaking process for a particular action will be based on OCFO experience with similar actions.

Patricia E. Healy,
Acting Chief Financial Officer.
Ann M. Veneman,
Secretary of Agriculture.

[FR Doc. 04-23254 Filed 11-4-04; 8:45 am]

BILLING CODE 3410-90-P